DEPARTMENT OF THE INTERIOR

Fish and Wildlife Service

[FWS-R8-ES-2020-N150; FXES11130000-212-FF08E00000]

Endangered and Threatened Wildlife and Plants; Draft Recovery Plan for Cirsium scariosum var. loncholepis (La Graciosa thistle)

AGENCY: Fish and Wildlife Service, Interior.

ACTION: Notice of document availability.

SUMMARY: We, the U.S. Fish and Wildlife Service (Service), announce the availability of the Draft Recovery Plan for Cirsium scariosum var. loncholepis (La Graciosa thistle) for public review and comment. The draft recovery plan includes objective, measurable criteria, and site-specific management actions as may be necessary to ameliorate threats, such that the species can be removed from the Federal List of Endangered and Threatened Plants.

DATES: We must receive any comments on the draft recovery plan on or before July 12, 2021.

ADDRESSES: Document availability: You may obtain a copy of the recovery plan from our website at http://www.fws.gov/endangered/species/recovery-plans.html. Alternatively, you may contact the Ventura Fish and Wildlife Office, U.S. Fish and Wildlife Service, 2493 Portola Road, Suite B, Ventura, CA 93003 (telephone 805-644-1766).

Comment submission: If you wish to comment on the draft recovery plan, you may submit your comments in writing by any one of the following methods:

• U.S. mail: Field Supervisor, at the above address; or

• Email: r8ventura-recoverycomments@fws.gov.

For additional information about submitting comments, see the Request for Public Comments section below.

FOR FURTHER INFORMATION CONTACT: Steve Henry, Field Supervisor, at the above street address above or telephone 805-644-1766.

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer necessary under the criteria specified in section 4(a)(1) of the Act. The Act requires the development of recovery plans for listed species, unless such a plan would not promote the conservation of a particular species.

Pursuant to section 4(f) of the Act, a recovery plan must, to the maximum extent practicable, include (1) a description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The Service has revised its approach to recovery planning; the revised process is called Recovery Planning and Implementation (RPI). The RPI process is intended to reduce the time needed to develop and implement recovery plans, increase recovery plan relevancy over a longer timeframe, and add flexibility to recovery plans so they can be easily adjusted to accommodate new information or circumstances. Under RPI, a recovery plan will include statutorily required elements (objective, measurable criteria; site-specific management actions; and estimates of time and costs), along with a concise introduction and our strategy for how we plan to achieve species recovery. The RPI recovery plan is supported by a separate Species Status Assessment, or in some cases, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy is adaptable, so that new information can easily be incorporated without having to concurrently revise the recovery plan, unless changes to the statutory elements are required.

The Service listed Cirsium scariosum var. loncholepis (La Graciosa thistle) as endangered in 2000 (65 FR 14888), and critical habitat was revised for the species in 2009 (74 FR 56978). Cirsium scariousum var. loncholepis is considered to be a biennial or short-lived perennial species, but has proven to be an annual under certain environmental conditions. The species is in the Asteraceae (daisy and sunflower) family and is restricted to coastal dune wetland, marsh and riparian habitats on sandy soils, along a small portion of the Central Coast of California. Its current geographic range is restricted to several sites within the Guadalupe-Nipomo Dunes Complex located in southwestern San Luis Obispo and northwestern Santa Barbara Counties.

Cirsium scariosum var. loncholepis occurs in wetland habitats with sandy soils, within arid and semiarid landscapes, including coastal dune wetlands, lakes, marshes, ponds, seeps and swales. It also occurs along the upper margins and floodplains of intermittent and perennial coastal streams within its range. Most occurrences are associated with wetland features scattered throughout the backdunes of two coastal sand dune complexes; the Callender Dunes, which are located south of the City of Arroyo Grande, and the contiguous Guadalupe Dunes that are found immediately north of the Santa Maria River. Characteristically, these coastal dune wetlands occur where the groundwater table is at or near the surface and the local hydrology varies annually with seasonal rainfall.

The primary threats the species include (1) reduced water/lack of water, with groundwater decline as the likely major cause, along with hydrological alteration and climate change, including severe drought and increased temperatures (Factors A and E), and (2) flooding resulting from hydrological alteration (Factor A). Several other threats also affect the species, with the most notable being stochastic events (Factor E), reproductive failure due to a variety of issues, including inbreeding and other genetic factors associated with small population size (Factor E), invasive species (Factor E), and loss of connectivity among occurrences and between populations (Factor E).

Recovery Strategy

The purpose of a recovery plan is to provide a framework for the recovery of a species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this recovery plan is to control or ameliorate impacts from current threats to Cirsium scariosum var. loncholepis such that the taxon no longer requires protections afforded by the Act and, therefore, warrants delisting. The site-specific management actions identified in the draft recovery plan are as follows:

1. Habitat restoration at all extant sites, which may include invasive weed treatments, woody debris removal, and renovation of local hydrologic regimes.

2. Supplemental watering when necessary during drought or lack of water, specifically to ensure survival of particular individual plants and/or colonies.

3. Installation of exclusionary fencing and/or cages around individuals and colonies to prevent herbivory from mammals.

4. Propagation and outplanting at locations that are extirpated, that have extremely low numbers of individuals and could become extirpated, or at appropriate sites located within close proximity to the extant occurrences.

5. Annual monitoring and reporting to assess the effectiveness of the near-term actions, track and census the numbers of individuals at each occurrence and to both guide and determine future recovery actions.

6. Establish and maintain a conservation seed bank at a facility that is certified by the Center for Plant Conservation.

7. Conduct research to evaluate the seed viability and pursue efforts to bulk the seed for outplanting.

8. Facilitate outplanting efforts at numerous sites that are likely to have cooperative recovery partners based on the current land ownership status and land use practices and/or that are conducive to these efforts because conservation easements are already established.

9. Continue attempts to gain access to other sites and occurrences within the historic range to conduct census surveys and assessments for potentially suitable habitat f or additional outplanting efforts.

10. Fulfill research needs, including the following: Best management practices and methods for the various life stages of the species; species response to disturbance from grazing, to thatch removal and to other vegetation management techniques; demographic studies, pollination ecology research, genetics research, habitat suitability analyses and modeling, groundwater testing and mapping and other hydrologic modeling for evaluating variable climate change scenarios.

Request for Public Comments

We request written comments on the draft recovery plan described in this notice. All comments received by the date specified in DATES will be considered in development of a final recovery plan for Cirsium scariosum var. loncholepis. You may submit written comments and information by mail, email, or in person to the Ventura Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this recovery plan and publish this notice under the authority of section 4(f) of the Act, 16 U.S.C. 1533(f).

Martha Maciel,
Acting Regional Director, Pacific Southwest Region.

[FR Doc. 2021-12304 Filed 6-10-21; 8:45 am]

BILLING CODE 4333-15-P